DEPARTMENT OF THE INTERIOR

National Park Service

[NPS-NER-BOHA-12211; PPMPSPD1Z.YM0000; PPNEBOHAS1]

Boston Harbor Islands Advisory Council Meeting

AGENCY: National Park Service, Interior.

ACTION: Notice of Meeting.

SUMMARY: This notice announces the annual meeting of the Boston Harbor Islands Advisory Council. The agenda includes a presentation by Sally Snowman, 70th keeper of Boston Light, the election of officers, and a park update.

Date/Time: March 6, 2013, 6:00 p.m. to 8:00 p.m. (Eastern).

Location: WilmerHale, 60 State Street, 26th floor, Boston, MA 02109.

FOR FURTHER INFORMATION CONTACT: Bruce Jacobson, DFO, Boston Harbor Islands National Recreation Area, 408 Atlantic Avenue, Suite 228, Boston, MA 02110; telephone (617) 223-8669; email Bruce_Jacobson@nps.gov.

SUPPLEMENTARY INFORMATION: This meeting open to the public. Pre-registration is required for public attendance, contact Mary Raczko by email at mary_raczko@nps.gov or by phone at (617) 223.8666 or register online at http://bostonharborislands.org/park-calendar. Those wishing to submit written comments may contact the Designated Federal Official for the Boston Harbor Islands Advisory Council, Bruce Jacobson, by mail at 408 Atlantic Avenue, Suite 228, Boston, MA 02110. Before including your address, phone number, email address, or other personal identifying information in your comment, you should be aware that your entire comment—including your personal identifying information—may be made publicly available at any time. While you can ask us in your comment to withhold your personal identifying information from public review, we cannot guarantee that we will be able to do so.

The Advisory Council was appointed by the Director of National Park Service pursuant to Public Law 104-333. The purpose of the Council is to advise and make recommendations to the Boston Harbor Islands Partnership with respect to the implementation of a management plan and park operations. Efforts have been made locally to ensure that the interested public is aware of the meeting dates.

Bruce Jacobson,
Designated Federal Official, Boston Harbor Islands National Recreation Area Northeast Region.

[FR Doc. 2013-03048 Filed 2-8-13; 8:45 am]

BILLING CODE 4310-WV-P